NUCLEAR REGULATORY COMMISSION

[Docket Nos. 50-338 and 50-339; NRC-2020-0201]

Virginia Electric and Power Company; North Anna Power Station Units 1 and 2; Draft Environmental Impact Statement

AGENCY: Nuclear Regulatory Commission.

ACTION: Request for comment; public comment meetings; opportunity to request a hearing and to petition for leave to intervene.

SUMMARY: The U.S. Nuclear Regulatory Commission (NRC) is issuing for public comment a draft environmental impact statement (DEIS), published as NUREG-1437, Supplement 7a, Second Renewal, “Site-Specific Environmental Impact Statement for License Renewal of Nuclear Plants Regarding Subsequent License Renewal for North Anna Power Station Units 1 and 2, Draft Report for Comment.” This DEIS supersedes NUREG-1437, Supplement 7, Second Renewal, “Generic Environmental Impact Statement for License Renewal of Nuclear Plants, Supplement 7, Second Renewal, Regarding Subsequent License Renewal for North Anna Power Station Units 1 and 2, Draft Report for Comment,” published in August 2021. North Anna Power Station Units 1 and 2 (North Anna) are located in Louisa County, Virginia. Possible alternatives to the proposed action of subsequent license renewal for North Anna include the no-action alternative and reasonable replacement power alternatives. A new notice of opportunity to request a hearing and petition for leave to intervene—limited to contentions based on new information in the DEIS—is also being issued.

DATES: The NRC will hold a webinar on the DEIS, including a presentation on the preliminary recommendation in the DEIS and a transcribed public comment session. The webinar will be held January 30, 2024, at 1 p.m. eastern time (ET). NRC is also planning an in-person meeting during the DEIS comment period. The meeting details will be posted on the NRC's Public Meeting Schedule at: https://www.nrc.gov/pmns/mtg. Members of the public are invited to submit comments on the DEIS by February 22, 2024. Comments received after this date will be considered if it is practical to do so, but the NRC is able to ensure consideration only for comments received on or before this date. Requests for a hearing or petitions for leave to intervene must be filed by March 8, 2024.

ADDRESSES: You may submit comments by any of the following methods; however, the NRC encourages electronic comment submission through the Federal rulemaking website:

• Federal rulemaking website: Go to https://www.regulations.gov and search for Docket ID NRC-2020-0201. Address questions about Docket IDs in Regulations.gov to Stacy Schumann; telephone: 301-415-0624; email: Stacy.Schumann@nrc.gov. For technical questions, contact the individual listed in the For Further Information Contact section of this document.

• Email comments to: Comments may be submitted to the NRC electronically using the email address NorthAnnaEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Tam Tran, Office of Nuclear Material Safety and Safeguards, U.S. Nuclear Regulatory Commission, Washington, DC 20555-0001; telephone: 301-415-3617; email: Tam.Tran@nrc.gov.

SUPPLEMENTARY INFORMATION:

I. Obtaining Information and Submitting Comments

A. Obtaining Information

Please refer to Docket ID NRC-2020-0201 when contacting the NRC about the availability of information for this action. You may obtain publicly available information related to this action using any of the following methods:

• Federal Rulemaking Website: Go to https://www.regulations.gov and search for Docket ID NRC-2020-0201.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NUREG-1437, Supplement 7a, Second Renewal, “Site-Specific Environmental Impact Statement for License Renewal of Nuclear Plants Regarding Subsequent License Renewal for North Anna Power Station Units 1 and 2, Draft Report for Comment,” is available in ADAMS under Accession No. ML23339A047.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of the DEIS is available for public review at the Louisa Library, 881 Davis Hwy, Mineral, VA 23117.

B. Submitting Comments

The NRC encourages electronic comment submission through the Federal rulemaking website (https://www.regulations.gov). Please include Docket ID NRC-2020-0201 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is issuing for public comment a draft environmental impact statement (DEIS), published as NUREG-1437, Supplement 7a, Second Renewal, “Site-Specific Environmental Impact Statement for License Renewal of Nuclear Plants Regarding Subsequent License Renewal for North Anna Power Station Units 1 and 2, Draft Report for Comment.” The DEIS supersedes a draft supplemental environmental impact statement (DSEIS) published as NUREG-1437, Supplement 7, Second Renewal, “Generic Environmental Impact Statement for License Renewal of Nuclear Plants, Supplement 7, Second Renewal, Regarding Subsequent License Renewal for North Anna Power Station Units 1 and 2, Draft Report for Comment” (ADAMS Accession No. ML21228A084) published for comment on August 25, 2021 (86 FR 47525).

The DEIS supersedes the August 2021 DSEIS and includes the NRC staff's site-specific evaluation of the environmental impacts of subsequent license renewal (SLR) for North Anna for each of the environmental issues that were previously dispositioned as Category 1 issues (generic to all or a distinct subset of nuclear power plants) in the August 2021 DSEIS consistent with the list of Category 1 issues in Table B-1 in appendix B to subpart A of title 10 of the Code of Federal Regulations (10 CFR) part 51 and NUREG-1437, “Generic Environmental Impact Statement for License Renewal of Nuclear Plants,” Revision 1, Final Report (June 2013). The DEIS considers information contained in the Virginia Electric and Power Company (Dominion, the applicant) September 28, 2022, submittal, which supplemented its environmental report in Dominion's 2020 SLR application. The DEIS also considers whether there is significant new information that would change the NRC staff's conclusions concerning Category 2 issues (specific to individual nuclear power plants) in the August 2021 DSEIS. The NRC staff prepared the DEIS in accordance with the Commission's decisions in Commission Legal Issuance (CLI)-22-02 (ADAMS Accession No. ML22055A496) and CLI-22-03 (ADAMS Accession No. ML22055A527), both dated February 24, 2022. Based on the site-specific evaluation provided in the DEIS, the NRC staff's preliminary recommendation is that the adverse environmental impacts of SLR for North Anna (i.e., the continued operation of North Anna for a period of 20 years beyond the current renewed license expiration dates) are not so great that preserving the option of SLR for energy-planning decision-makers would be unreasonable. The NRC staff based its recommendation on the applicant's environmental report, as supplemented, the NRC staff's consultations with Federal, State, Tribal, and local government agencies, the NRC staff's independent environmental review, as documented in the DEIS, and the NRC staff's consideration of public comments.

III. Opportunity To Request a Hearing and Petition for Leave To Intervene

As the Commission directed in CLI-22-03, a new notice of opportunity to request a hearing and petition for leave to intervene—limited to contentions based on new information discussed in the DEIS—is being issued.

Within 60 days after the date of publication of this notice, any person (petitioner) whose interest may be affected by this action may file a request for a hearing and petition for leave to intervene (petition) with respect to the action. Petitions shall be filed in accordance with the Commission's “Agency Rules of Practice and Procedure” in 10 CFR part 2. Interested persons should consult 10 CFR 2.309. If a petition is filed, the presiding officer will rule on the petition and, if appropriate, a notice of hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

A State, local governmental body, federally recognized Native American Tribe, or designated agency thereof, may submit a petition to the Commission to participate as a party under 10 CFR 2.309(h) no later than 60 days from the date of publication of this notice. Alternatively, a State, local governmental body, federally recognized Native American Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

IV. Electronic Submissions (E-Filing)

All documents filed in NRC adjudicatory proceedings, including documents filed by an interested State, local governmental body, federally recognized Native American Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

Dated: January 3, 2024.
For the Nuclear Regulatory Commission.
Christopher M. Regan,
Director, Division of Rulemaking, Environmental, and Financial Support, Office of Nuclear Materials Safety and Safeguards.

[FR Doc. 2024-00147 Filed 1-5-24; 8:45 am]

BILLING CODE 7590-01-P